NATIONAL FOUNDATION ON THE ARTS AND THE HUMANITIES

Institute of Museum and Library Services

Submission for OMB Review, Comment Request, Proposed Collection: 2025-2027 IMLS National Leadership Grants for Libraries and Laura Bush 21st Century Librarian Program Notices of Funding Opportunity

AGENCY: Institute of Museum and Library Services, National Foundation on the Arts and the Humanities.

ACTION: Submission for OMB review, comment request, collection of information.

SUMMARY: The Institute of Museum and Library Services (IMLS) announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments concerning two grant programs targeting the needs of libraries and their communities nationwide: IMLS National Leadership Grants for Libraries and the IMLS Laura Bush 21st Century Librarian Program.

DATES: Written comments must be submitted to the office listed in the ADDRESSES section below on or before June 08, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Anthony D. Smith, Acting Deputy Director, Office of Library Services, Institute of Museum and Library Services, 955 L'Enfant Plaza North SW, Suite 4000, Washington, DC 20024-2135. Mr. Smith can be reached by telephone at 202-653-4716, or by email at asmith@imls.gov. Office hours are from 8:30 a.m. to 5 p.m., E.T., Monday through Friday, except Federal holidays. Persons who are deaf or hard of hearing (TTY users) can contact IMLS at 202-207-7858 via 711 for TTY-Based Telecommunications Relay Service.

SUPPLEMENTARY INFORMATION: IMLS is the primary source of federal support for the nation's libraries and museums. We advance, support, and empower America's museums, libraries, and related organizations through grant making, research, and policy development. To learn more, visit www.imls.gov.

Current Actions: The IMLS National Leadership Grants for Libraries Program supports projects that enhance the quality of library and archive services nationwide by advancing theory and practice and by generating results such as new tools, research findings, models, services, practices, or collaborative approaches that can be widely used, adapted, scaled, or replicated to extend the benefits of federal investment.

The IMLS Laura Bush 21st Century Librarian Program supports developing a diverse workforce of librarians to better meet the changing learning and information needs of the American public by enhancing the training and professional development of library and archives professionals; developing faculty and library leaders; and recruiting, educating, and retaining the next generation of library and archives professionals.

This action is to renew the content, forms, and instructions for the two Notices of Funding Opportunity for the next three years (FY25-FY27).

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

The 60-Day Notice was published in the Federal Register on February 27, 2024 (89 FR 14525) (Document Number 2024-03983). We received and replied to one comment in response to this Notice. A copy of the proposed information collection request can be obtained by contacting the individual listed in the FOR FURTHER INFORMATION CONTACT section of this notice.

Agency: Institute of Museum and Library Services.

Title: 2025-2027 IMLS National Leadership Grants for Libraries and Laura Bush 21st Century Librarian Program Notices of Funding Opportunity.

OMB Control Number: 3137-0091.

Agency Number: 3137.

Affected Public: Library applicants.

Total Number of Respondents: 400.

Frequency of Response: Once per request.

Average Hours Per Response: 45.

Total Estimated Number of Burden Hours: 18,000.

Total Annual Cost Burden: $560,520.

Total Annual Federal Costs: $90,783.

Dated: May 3, 2024.
Suzanne Mbollo,
Grants Management Specialist, Institute of Museum and Library Services.

[FR Doc. 2024-10094 Filed 5-8-24; 8:45 am]

BILLING CODE 7036-01-P